FEDERAL COMMUNICATIONS COMMISSION

47 CFR Part 69

[WC Docket No. 05-25, RM-10593; DA 15-1037]

Wireline Competition Bureau Further Extends Comment Deadlines in Special Access Proceeding

AGENCY: Federal Communications Commission.

ACTION: Proposed rule; extension of comment and reply deadlines.

SUMMARY: In this document, the Federal Communications Commission's (Commission's) Wireline Competition Bureau (Bureau) further extends the deadlines for interested parties to submit comments and reply comments in response to Section IV.B of the Further Notice of Proposed Rulemaking (Special Access FNPRM), in the special access proceeding.

DATES: The comment period for the proposed rule published January 11, 2013 (78 FR 2600), has been further extended. Comments are due on or before November 20, 2015; reply comments are due on or before December 11, 2015.

ADDRESSES: Federal Communications Commission, 445 12th Street SW., Washington, DC 20554.

FOR FURTHER INFORMATION CONTACT: Christopher Koves, Pricing Policy Division, Wireline Competition Bureau, 202-418-8209 or Christopher.Koves@fcc.gov.

SUPPLEMENTARY INFORMATION: This is a summary of the Commission's document, WC Docket No. 05-25, RM-10593, DA 15-1037, released September 17, 2015. This document does not contain information collection(s) subject to the Paperwork Act of 1995 (PRA), Public Law 104-13. In addition, therefore, it does not contain any new or modified “information collection burden[s] for small business concerns with fewer than 25 employees,” pursuant to the Small Business Paperwork Relief Act of 2002. The full text of this document may be downloaded at the following Internet address: https://apps.fcc.gov/edocs_public/attachmatch/DA-15-1037A1.docx. The complete text may be purchased from Best Copy and Printing, Inc., 445 12th Street SW., Room CY-B402, Washington, DC 20554. To request alternative formats for persons with disabilities (e.g., accessible format documents, sign language, interpreters, CARTS, etc.), send an email to fcc504@fcc.gov or call the Commission's Consumer and Governmental Affairs Bureau at (202) 418-0530 or (202) 418-0432 (TTY).

Background

On September 17, 2015, the Bureau released a public notice extending the deadlines for filing comments and reply comments in response to Section IV.B of the Special Access FNRPM, 78 FR 2600, January 11, 2013, in the Commission's special access rulemaking proceeding until November 20, 2015 and December 11, 2015, respectively. Previous comment period extensions have been published in the Federal Register. The latest comment period extension was published in the Federal Register on July 14, 2015 (80 FR 40956), to extend the comment and reply comment deadlines to September 25, 2015 and October 16, 2015, respectively. On December 11, 2012, the Commission adopted an order requiring providers and purchasers of special access service and certain entities providing “best efforts” service to submit data and information for a comprehensive evaluation of the special access market. In Section IV.B of the Special Access FNPRM accompanying that order, the Commission sought comment on possible changes to its rules for the special access services provided by incumbent local exchange carriers in price cap areas. The Commission set the comment deadlines on this portion of the Special Access FNPRM several months after its release, in order to give interested parties an opportunity to review the information collected before filing comments. The Bureau subsequently extended the comment deadlines since the data was not yet available. For similar reasons, the Bureau hereby further extends the comment and reply deadlines. The Bureau is initiating the process of allowing access to the data collected to authorized parties pursuant to the protective order in this proceeding via the NORC Data Enclave®. Interested parties will not, however, have adequate time to access and review the information collected prior to the current September 25 and October 16, 2015 comment and reply comment deadlines. To provide sufficient time for interested parties to access and review the information collected, the Bureau hereby extends the deadline for filing comments to November 20, 2015, and reply comments to December 11, 2015.

Federal Communications Commission.
Pamela Arluk,
Chief, Pricing Policy Division, Wireline Competition Bureau.

[FR Doc. 2015-25048 Filed 10-1-15; 8:45 am]

BILLING CODE 6712-01-P